DEPARTMENT OF TRANSPORTATION

Federal Aviation Administration

Notice of Request To Release Airport Property at Charleston International Airport, Charleston, South Carolina

AGENCY: Federal Aviation Administration (FAA), DOT.

ACTION: Notice and request for comment.

SUMMARY: The Federal Aviation Administration (FAA) is considering a request to release and authorize the sale of 19.098 acres of airport property located at the Charleston International Airport, Charleston, South Carolina, and invites public comment on this notice. The airport property is planned to be sold by the Charleston County Aviation Authority (CCAA) for the proposed use of aircraft manufacturing. Currently, ownership of the property provides for protection of FAR Part 77 surfaces and compatible land use which would continue to be protected with deed restrictions required in the transfer of land ownership.

DATES: Comments must be received on or before August 10, 2018.

ADDRESSES: Comments on this application may be mailed or delivered to the FAA at the following address: Aimee McCormick, Federal Aviation Administration, Atlanta Airports District Office, 1701 Columbia Ave., Ste. 220, College Park, GA 30337.

In addition, one copy of any comments submitted to the FAA must be mailed or delivered to: Hernan Pena, Deputy Director, Charleston County Aviation Authority, 5500 International Blvd., #101, North Charleston, SC 29418.

FOR FURTHER INFORMATION CONTACT: Aimee McCormick, Federal Aviation Administration, Atlanta Airports District Office, 1701 Columbia Ave., Ste. 220, College Park, GA 30337, aimee.mccormick@faa.gov. The request to release property may be reviewed, by appointment, in person at this same location.

SUPPLEMENTARY INFORMATION: On November 9, 2017, CCAA requested the FAA to release 19.089 acres of airport property. The request will allow CCAA to transfer ownership to the South Carolina Department of Commerce for the use of aircraft manufacturing. In return, the Department of Commerce will transfer 33.715 acres of property to CCAA. The fair market value of the two properties involved are of equal value. The use of the 33.715 acres will allow CCAA to construct a public parking facility. The FAA may approve the request, in whole or in part, no sooner than thirty days after the publication of this notice.

Any person may inspect, by appointment, the request in person at the FAA office listed above under FOR FURTHER INFORMATION CONTACT. In addition, any person may, upon appointment and request, inspect the application, notice and other documents determined by the FAA to be related to the application in person at the Charleston International Airport.

Issued in Atlanta, GA, on July 3, 2018,
Larry F. Clark,
Manager, Atlanta Airports District Office.

[FR Doc. 2018-14785 Filed 7-10-18; 8:45 am]

BILLING CODE 4910-13-P